DEPARTMENT OF TRANSPORTATION

Federal Aviation Administration

[Summary Notice No. PE-2004-74]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of certain dispositions of certain petitions previously received. The purpose of this notice is to improve the public's awareness of, and participation in, this aspect of FAA's regulatory activities.

FOR FURTHER INFORMATION CONTACT: Tim Adams (202) 267-8033, or Sandy Buchanan-Sumter (202) 267-7271, Office of Rulemaking (ARM-1), Federal Aviation Administration, 800 Independence Avenue, SW., Washington, DC 20591.

This notice is published pursuant to 14 CFR 11.85 and 11.91.

Issued in Washington, DC, on September 3, 2004.
Anthony F. Fazio,
Director, Office of Rulemaking.

Dispositions of Petitions

Docket No.: FAA-2002-11988.

Petitioner: Alpine Air, Inc.

Section of 14 CFR Affected: 14 CFR 135.143(c)(2).

Description of Relief Sought/Disposition: To permit Alpine Air, Inc., to operate certain aircraft under part 135 without a TSO-C112 (Mode S) transponder installed on those aircraft.

Grant, 07/31/04, Exemption No. 7267B

Docket No.: FAA-2004-18516.

Petitioner: Mr. Scott Rohlfing.

Section of 14 CFR Affected: 14 CFR 91.109(a).

Description of Relief Sought/Disposition: To permit Mr. Scott Rohlfing to conduct certain flight training in certain Beechcraft Bonanza/Debonair airplanes that are equipped with a functioning throwover control wheel.

Grant, 08/03/04, Exemption No. 8368

Docket No.: FAA-2002-12831.

Petitioner: Air Transport Association.

Section of 14 CFR Affected: 14 CFR 61.157(a); item I(b) of appendix A to part 61; 121.424(a), (b), and (d)(1); item I(a) of appendix E to part 121; and item I(b) of appendix F to part 121.

Description of Relief Sought/Disposition: To permit Air Transport Association member airlines and other qualifying part 121 certificate holders to conduct training and checking of pilots on airplanes that require two flight crewmembers for the required preflight inspection, both interior and exterior, using approved advanced pictorial means.

Grant, 08/03/04, Exemption No. 4416J

Docket No.: FAA-2001-10800.

Petitioner: Sierra Industries, Inc.

Section of 14 CFR Affected: 14 CFR 91.9(a) and 91.531(a)(1) and (2).

Description of Relief Sought/Disposition: To permit Sierra Industries, Inc., to permit certain qualified pilots of its Cessna Citation Model 500 series airplanes (Serial Nos. 0001 through 0349 only) equipped with supplemental type certificate (STC) No. SA8176SW or STC No. SA09377SC and either STC No. SA2172NM or STC No. SA645NW to operate those aircraft without a pilot who is designated as second in command. The amendment requested would add STC No. ST09559AC to the list of approved STCs.

Grant, 8/3/2004, Exemption No. 5517H

Docket No.: FAA-2001-10857.

Petitioner: Department of Defense.

Section of 14 CFR Affected: 14 CFR 91.117(a) and (b), 91.159(a), and 91.209(a)(1) and (b).

Description of Relief Sought/Disposition: To permit the Department of Defense to conduct air operations in support of drug law enforcement and traffic interdiction without meeting certain requirements pertaining to (1) aircraft speed, (2) cruising altitudes for flights conducted under visual flight rules, and (3) the use of aircraft position lights and anticollision light systems.

Grant, 8/4/2004, Exemption No. 5100G

Docket No.: FAA-2002-11568.

Petitioner: Broward County Mosquito Control.

Section of 14 CFR Affected: 14 CFR 137.53(c)(2).

Description of Relief Sought/Disposition: To permit Broward County Mosquito Control to conduct aerial applications of insecticide materials from a Beechcraft C-45H aircraft (registration No. N850BC, serial No. 51-11844A) without the aircraft being equipped with a device that is capable of jettisoning at least one-half of the aircraft's maximum authorized load of agricultural materials within 45 seconds when operating over a congested area.

Grant, 8/9/2004, Exemption No. 8370

Docket No.: FAA-2000-8476.

Petitioner: American Eagle Airlines, Inc., and Executive Airlines.

Section of 14 CFR Affected: 14 CFR 121.434 and 121.683.

Description of Relief Sought/Disposition: To permit American Eagle Airlines, Inc., and Executive Airlines to allow their pilots to transfer between the two air carriers without meeting the specific requirements of 14 CFR related to operating experience, operating cycles, consolidation of knowledge and skills, and recordkeeping.

Denial, 8/11/2004, Exemption No. 8374

Docket No.: FAA-2003-16491.

Petitioner: Department of the Army.

Section of 14 CFR Affected: 14 CFR 105.19(a) and (b).

Description of Relief Sought/Disposition: To permit the Department of the Army, 2nd Battalion, 75th Ranger Regiment to conduct certain night, unlighted parachute operations, outside special use airspace at Fort Lewis, Washington. The amendment requested would increase the altitude from 800 feet above ground level (AGL) to 1,500 feet AGL.

Grant, 8/12/2004, Exemption No. 8255A

Docket No.: FAA-2004-18845.

Petitioner: Maverick Helicopters.

Section of 14 CFR Affected: 14 CFR 135.143(c)(2).

Description of Relief Sought/Disposition: To permit Maverick Helicopters to operate certain aircraft under part 135 without a TSO-C112 (Mode S) transponder installed on those aircraft.

Grant, 8/13/2004, Exemption No. 8380

Docket No.: FAA-2001-10165.

Petitioner: North Jersey Chapter of the Ninety-Nines, Inc.

Section of 14 CFR Affected: 14 CFR 135.251, 135.255, and 135.353, and appendices I and J to part 121.

Description of Relief Sought/Disposition: To permit North Jersey Chapter of the Ninety-Nines, Inc., to conduct local sightseeing flights at the Lincoln Park Airport, Lincoln Park, New Jersey, on October 2, 2004, or on October 3, 2004, for compensation or hire, without complying with certain anti-drug and alcohol misuse prevention requirements of part 135, subject to certain conditions and limitations.

Grant, 8/13/2004, Exemption No. 8379

Docket No.: FAA-2004-18731.

Petitioner: Plainwell Pilots Association.

Section of 14 CFR Affected: 14 CFR 135.251, 135.255, and 135.353, and appendices I and J to part 121.

Description of Relief Sought/Disposition: To permit Plainwell Pilots Association to conduct local sightseeing flights at the Plainwell Airport, Plainwell, Michigan, for a one-day event during the month of October 2004, for compensation or hire, without complying with certain anti-drug and alcohol misuse prevention requirements of part 135, subject to certain conditions and limitations.

Grant, 8/13/2004, Exemption No. 8378

Docket No.: FAA-2004-17944.

Petitioner: Spirit Airlines, Inc.

Section of 14 CFR Affected: 14 CFR 91.203(a) and (b) and 47.49.

Description of Relief Sought/Disposition: To permit Spirit Airlines, Inc., to temporarily operate its U.S.-registered aircraft following incidental loss or mutilation of the certificate of airworthiness or registration, or both. Such operation is permitted only after the statement specified in conditions and limitations No. 3(a) of the exemption has been recorded in the aircraft logbook and the appropriate signature affixed thereto.

Grant, 8/13/2004, Exemption No. 8377

Docket No.: FAA-2000-8215.

Petitioner: Telesis TransAir, Inc.

Section of 14 CFR Affected: 14 CFR 135.143(c)(2).

Description of Relief Sought/Disposition: To permit Telesis TransAir, Inc., to operate certain aircraft under part 135 without a TSO-C112 (Mode S) transponder installed on those aircraft.

Grant, 8/20/2004, Exemption No. 7391B

Docket No.: FAA-2000-8063.

Petitioner: Eagle Canyon Airlines, Inc. d.b.a. Scenic Airlines.

Section of 14 CFR Affected: 14 CFR 121.345(c)(2).

Description of Relief Sought/Disposition: To permit Eagle Canyon Airlines, Inc., d.b.a. Scenic Airlines to operate certain aircraft under part 121 without a TSO-C112 (Mode S) transponder installed on those aircraft until December 31, 2004.

Grant, 8/20/2004, Exemption No. 6839D

Docket No.: FAA-2001-11131.

Petitioner: Mr. Gary K. Gates.

Section of 14 CFR Affected: 14 CFR 61.113(d) and (e).

Description of Relief Sought/Disposition: To permit Mr. Gary K. Gates to conduct point-to-point airlifts of medical patients while holding a private pilot certificate with at least 1,000 hours of pilot in command time and instrument rating. He will provide transport to checkups and followup hospital visits and receive compensation for concurrent operating expenses.

Denial, 8/16/2004, Exemption No. 8381

Docket No.: FAA-2002-14080.

Petitioner: Air 1st Aviation Companies of Oklahoma, Inc.

Section of 14 CFR Affected: 14 CFR 135.143(c)(2).

Description of Relief Sought/Disposition: To permit Air 1st Aviation Companies of Oklahoma, Inc., to operate certain aircraft under part 135 without a TSO-C112 (Mode S) transponder installed on those aircraft.

Grant, 8/20/2004, Exemption No. 7938A

[FR Doc. 04-20548 Filed 9-10-04; 8:45 am]

BILLING CODE 4910-13-P